DEPARTMENT OF DEFENSE

Office of the Secretary

32 CFR Part 206

National Security Education Program (NSEP) Grants to Institutions of Higher Education

AGENCY: Department of Defense.

ACTION: Final rule.

SUMMARY: This document republishes 32 CFR part 206, “National Security Education Program” which was removed from the CFR in error. No changes have been made.

DATES: This rule is effective May 16, 2006.

FOR FURTHER INFORMATION CONTACT: L. Bynum 703-696-4970.

SUPPLEMENTARY INFORMATION: The removal was published in the Federal Register on Tuesday, May 9, 2006 (71 FR 26831).

List of Subjects in 32 CFR Part 206

Colleges and universities, Grant programs—education.

Accordingly, 32 CFR part 206 is added to read as follows:

PART 206—NATIONAL SECURITY EDUCATION PROGRAM (NSEP) GRANTS TO INSTITUTIONS OF HIGHER EDUCATION

Sec.
206.1 Major characteristics of the NSEP institutional grants program.
206.2 Eligibility.
206.3 Overall program emphasis.
206.4 Proposal development and review.
206.5 Final proposal process.

Authority: 20 U.S.C. 1141(a).

§ 206.1 Major characteristics of the NSEP institutional grants program.

(a) The Institutional Grants Program provides support in the form of grants to U.S. institutions of higher education. During the 1994-95 and 1995-96 academic years, a program of pilot grants is being initiated with an annual competition for grants held during the spring of each year. Grants to institutions will complement NSEP scholarship and fellowship programs. NSEP encourages the development of programs and curricula which:

(1) Improves the quality and infrastructure of international education;

(2) Addresses issues of national capacity; and

(3) Defines innovative approaches to issues not addressed by NSEP scholarship and fellowship programs.

(b) The NSEP Grants Program is designed to address a number of important objectives critical to the United States:

(1) To equip Americans with an understanding of less commonly taught languages and cultures and enable them to become integrally involved in global issues.

(2) To build a critical base of future leaders in the marketplace and in government service who have cultivated international relationships and worked and studied along-side foreign experts.

(3) To develop a cadre of professionals with more than the traditional knowledge of language and culture who can use this ability to help the U.S. make sound decisions and deal effectively with global issues; and

(4) To enhance institutional capacity and increase the number of faculty who can educate U.S. citizens toward achieving these goals.

(c) Grants will be awarded for initial 1- or 2-year periods. Potential follow-on commitments will be based on a rigorous evaluation and assessment process. Between 15 and 25 awards are expected to be made in the first year ranging from approximately $25,000 to $250,000. These are only estimates and do not bind the NSEP to a specific number of grants or to the amount of the grant.

(d) The following key characteristics will be emphasized in the NSEP Institutional Grants Program:

(1) Programmatic in emphasis. The purpose of the grants is to address weaknesses and gaps in programs and curricula. The grants should be used to strengthen the national capacity in international education. While “operational” support for already existing centers and projects may be a component of a grant, NSEP emphasizes commitment of its limited resources to projects that establish and improve educational programs available to students and teachers.

(2) Demand and requirements oriented. Grants are designed to address national needs. These needs must be clearly articulated and defended in a grant proposal. It must be clear that the following questions are addressed:

(i) Who will benefit from the program funded by the grant?

(ii) What need does the program address?

(iii) How will this program augment the capacity of the Federal Government or of the field of education in areas consistent with the objectives of the NSEP? How does it fit the national requirement?

(3) Cooperation and collaboration among institutions is mandated in order to ensure that a wider cross-section of colleges and universities benefit from a program funded under NSEP. NSEP is committed to providing opportunities to the widest cross-section of the higher education population as is feasible. Cooperation can be in the form of formal consortia arrangements or less formal but equally effective agreements among institutions. Both vertical (among different types of institutions) and horizontal (among similar institutions across functional areas) integration are encouraged. Outreach to institutions that do not normally benefit from such programs is also strongly favored.

(4) Complementary to other Federal programs such as Title VI of the Higher Education Act. NSEP is designed to address gaps and shortfalls in Higher Education and to build and expand national capacity. NSEP recognizes that base capacity currently exists in some foreign languages and area studies. It also recognizes that funding shortfalls and other factors have contributed to tremendous gaps and weaknesses. Funding for expansion of the international education infrastructure remains limited. Duplication of effort is not affordable. NSEP encourages new initiatives as well as expansion of existing programs to increase supply in cases where the demand cannot be met and encourages efforts that increase demand.

(5) NSEP encourages proposals that address two categories of issues relating to the mission of NSEP:

(i) Programs in specific foreign languages, countries or areas; and/or

(ii) Programs addressing professional, disciplinary and/or interdisciplinary opportunities involving international education.

(6) NSEP views student funding as portable and hopes that universities will develop ways to move students to programs and to provide credit with these programs. NSEP believes that programs need to be developed that are available to a wider cross-section of students. Thus, they need to be “open” to students from other institutions. Programs might also be “transportable” from one institution to another.

(7) NSEP emphasizes leveraging of funds and cost-sharing in order to maximize the impact of NSEP funding. It encourages institutions to seek other sources of funding to leverage against NSEP funding and to commit institutional resources in support of the program as well. NSEP also emphasizes burden sharing between the institution and the Program. NSEP encourages institutions to demonstrate a commitment to international education and to present a plan for how funding for the proposed program will be achieved over a 3-5 year period so that NSEP can reduce its financial commitment to programs. The funds requested from NSEP should minimize costs allocated to unassigned institutional “overhead.” NSEP institutional grants are assumed to be for training programs. Consequently, university/college indirect costs associated with training programs should be used as a general benchmark for determining appropriate overhead rates.

(8) NSEP encourages creativity and is responsive to the needs of higher education to expand the capacity to provide more opportunities for quality international education. We do not suggest that the guidelines presented in the grant solicitation will cover all problems and issues. Quite to the contrary, we encourage careful consideration of issues confronting international education in the U.S. and thoughtful proposals that address these issues, consistent with the overall mission of the NSEP.

§ 206.2 Eligibility.

Any accredited U.S. institution of higher education, as defined by section 1201(a) of the Higher Education Act of 1965 (20 U.S.C. 1141(a)), may apply for and receive a grant. This includes 2- and 4-year colleges and universities, both public and private. Other organizations, associations, and agencies may be included in proposals but may not be direct recipients of a grant. Foreign institutions may also be included in a proposal but may not be direct recipients of a grant. Only U.S. citizens and U.S. institutions may receive funds through a grant awarded by the NSEP.

§ 206.3 Overall program emphasis.

(a) The NSEP grants to institutions program focuses on two broad program areas that reflect the challenges to building the infrastructure for international education in U.S. higher education:

(1) Development and expansion to quality programs in overseas locations.

(i) Programs that offer important opportunities for U.S. students, both undergraduate and graduate, to study in critical areas under-represented by U.S. students, and

(ii) Development of meaningful competencies in foreign languages and cultures.

(2) Development and implementation of programs and curricula on U.S. campuses that provide more opportunities for study of foreign languages and cultures and the integration of these studies into overall programs of study.

(b) Addressing the need for improving study abroad infrastructure. The NSEP encourages the study of foreign cultures and languages typically neglected or under-represented in higher education. In the foreign language field these are generally referred to as less commonly taught languages. In area studies, these are generally defined as non-Western European in focus. An integral part of any student's international education is a quality study abroad experience that includes a significant portion devoted to gaining functional competence in an indigenous language and culture. Unfortunately, there are only limited opportunities to study abroad in many foreign areas. In addition, many programs lack a quality foreign language component as well as significantly experiential components. Historically, more attention has been paid to the development of programs in Western Europe where the student demand has been greater. NSEP hopes to encourage, through institutional grants, the development and/or expansion of infrastructure for study abroad in critical areas of the world where capacity does not currently exist. Programs are encouraged that:

(1) Expand program opportunities in critical countries where limited opportunities currently exist.

(2) Establish program opportunities in critical countries where no opportunities exist.

(3) Enhance meaningful opportunities for foreign language and foreign culture acquisition in conjunction with study abroad.

(4) Create and expand study abroad opportunities for students from diverse disciplines. In all cases, grants to develop study abroad infrastructure must address issues of demand (how to increase demand for study in the proposed countries or regions) and diversity (how to attract a diverse student population to study in the proposed countries or regions). Grants may support start-up of programs or the expansion of a program's capacity to benefit more and/or different student or to improve the quality of study abroad instruction. Proposals can address issues concerning either or both issues. of undergraduate and graduate education.

(c) Addressing the infrastructure for international education in U.S. higher education. While studying abroad is an integral part of becoming more proficient in one's understanding of another culture and in becoming more functionally competent in another language, the NSEP also emphasizes the development and expansion of programs that address serious shortfalls that provide a stronger domestic program base in areas consistent with the NSEP mission. The NSEP encourages grant proposals that address infrastructure issues. While not limited to these areas, programs might address the following issues:

(1) Enhancing foreign language skill acquisition through innovative curriculum development efforts. Such efforts may involve intensive language study designed for different types of students. Less traditional approaches should be considered as well as ways to provide foreign language instruction for the student who may not otherwise have an opportunity to pursue such instruction. Functional competency should be stressed but defined as meaningful for the particular discipline or field.

(2) Expanding opportunities for international education in diverse disciplines and fields and in issues that are cross-area or cross-national in character. Efforts are encouraged that offer opportunities for meaningful international education for those in fields where opportunities are not generally available. There are many fields and disciplines that are rapidly becoming international in scope, yet the educational process does not include a meaningful international component. In many cases this is due to a rigid structure in the field itself that cannot accommodate additional requirements, such as language and culture study. There are also issues that involve cross-area or cross-national education or are studied in comparative terms. Students in these areas also need quality opportunities in international education.

(3) Provide opportunities for programmatic studies throughout an undergraduate or graduate career. Students frequently study a foreign language or pursue study abroad opportunities as adjuncts to their overall program of study. Innovations in curriculum are needed to more thoroughly integrate aspects of international education into curriculum throughout a student's undergraduate or graduate career. The NSEP encourages institutions to address these overall international education curriculum issues in their proposals.

(4) Provide opportunities to increase demand for study of foreign areas and languages. Efforts to develop educational programs that offer innovative approaches to increasing demand to include a meaningful international component are encouraged. Proposals are encouraged to address issues of diversity: How to attract students who have historically not pursued opportunities involving international education. Diversity includes geographical, racial, ethnic, and gender factors.

(5) Improve faculty credentials in international education. Efforts to create more opportunities for teachers to become competent in foreign cultures and languages are encouraged. While NSEP is a higher education program, it is interested in the potential dynamics of collaborative efforts that recognize the shared responsibility of all educational levels for promoting international education.

(6) Uses of new technologies. During the last decade tremendous advances have been made in the application of new educational technologies. Such technologies have enhanced our capacity to improve instruction, broaden access, and assess student learning. NSEP's objective is not to support large technology oriented projects. However, NSEP encourages efforts that integrate innovative uses of technology emphasizing how proposed programs will have significance beyond a local setting. Proposals that include proposed uses of technology will be required to demonstrate detailed knowledge of the technology, how it is to be developed and applied and how student learning will be impacted.

§ 206.4 Proposal development and review.

The purpose of this section is to explain the NSEP review process. [Note: A number of important approaches to proposal development and review have been adapted from guidelines developed by the Department of Education's Office of Postsecondary Education for its “Fund for the Improvement of Postsecondary Education (FIPSE)”.] This information if intended to aid institutions in the development of proposals and to provide guidance concerning the criteria that may be used in reviewing and evaluating proposals.

(a) The grants to institutions program will be administered by the National Security Education Program Office (NSEPO). However, the NSEPO will function as an administrative office much in the same manner as the Institute of International Education and the Academy for Educational Development function in administering NSEP scholarship and fellowship programs, respectively. The NSEPO will not review or evaluate proposals. The proposals will be reviewed and evaluated by national screening panels.

(b) The NSEP will use a two-stage review process in order to evaluate a broad range of proposal ideas. In the first stage, applicants will submit a five-page summary (double-spaced) of their proposal. An institution may submit more than one proposal, but each proposal should be submitted and will be evaluated separately and independently.

(c) NSEP expects competition for grants to be intense. By implementing a two-stage process, potential grantees are given an opportunity to present their ideas without creating a paperwork burden on both the proposal authors and the reviewers.

(d) The preliminary review process. The review of preliminary proposals will be undertaken by panels of external reviewers, not members of the NSEPO. Panels of not less than three will be assembled to review preliminary proposals. Panel members will be drawn primarily from faculty and administration in higher education but might also include representatives from the research, business, and government communities. Every effort will be made to ensure balance (geographical, ethnic, gender, institutional type, subject matter) across the entire competition.

(e) Panel members will reflect the nature of the grants program. Each panel will include a recognized expert in a field of international education. Other panelists may include experts in area studies, foreign language education, and other fields and disciplines with an international focus.

(f) Preliminary proposals will be reviewed according to a set of criteria developed in consultation with representatives from higher education, and provided to the panels. The applicant shall, at a minimum, deal with the following issues in the preliminary proposal:

(1) How the proposal addresses issues of national capacity in international education.

(2) What area(s), language(s), and discipline(s) the proposal addresses and the importance of these to U.S. national capacity.

(3) What the applicant is proposing to do.

(4) How the proposal deals with the key characteristics of the NSEP.

(5) Demonstration of thorough knowledge of the state of the art in the particular area of the proposal and how this proposal develops or builds capacity, not duplicates existing capacity.

(g) The applicant must also include a budget estimate. This budget estimate, for the first year of the proposal, must include the following:

(1) A summary of anticipated direct costs including professional salaries, funds for students, travel, materials and supplies, consultants, etc., and how or why these costs are needed.

(2) An estimate of institutional indirect costs. The budget estimate must also indicate whether funding is also being requested for a second year and, if so, an estimate of the amount to be requested.

(h) Panelists will review and rank proposals and forward their recommendations to the NSEPO. NSEPO will review and analyze these recommendations and inform all applicants of decisions.

§ 206.5 Final proposal process.

NSEPO will provide detailed comments on proposals to all applicants who are invited to prepare a final proposal.

(a) Final proposals should be limited to no more than 25 double-spaced pages. Proposals will be reviewed by national panels constructed similarly to those designed to review preliminary proposals. In addition to a field review process, panelists will be assembled in Washington D.C. to discuss and review the independent and competing merits of proposals.

(b) Proposals will be evaluated in two basic categories:

(1) Proposals that address study abroad infrastructure and

(2) Proposals that address domestic infrastructure. Should proposals deal with both of these issues, they will be evaluated in a third category. This grouping of proposals will ensure that all categories of proposals receive funding consideration.

(c) In general, final proposals will be considered on the following selection criteria:

(1) Importance of the problem. Each proposal will be evaluated according to the merit of how it addresses issue(s) of national capacity. The proposal must articulate the importance of the problem it addresses, how the proposal addresses issues of national capacity in international education, and how it is consistent with the objectives of the NSEP.

(2) Importance of proposed foreign language(s), foreign area(s), field(s) or discipline(s). The proposal will be evaluated according to how well it articulates the need for programs in the proposed areas, languages, fields, or disciplines.

(3) Identification of need and gaps/shortfalls. The proposal will be evaluated according to its persuasiveness in identifying where the needs exist and where serious shortfalls exist in the capacity to fill the need. The proposal should clearly identify why these gaps exist and provide a strong indication of familiarity with the state of the field in the proposal area.

(4) Cost effectiveness. Proposals will be evaluated on the basis of “educational value for the dollar.” NSEP is interested in funding proposals in areas where other funding is limited or in areas where NSEP funding can significantly augment or complement other sources. NSEP is not interested in replacing funds available from other sources or in duplicating other efforts. Also, NSEP is interested in projects whose dollar levels and long-range budget plans provide for realistic continuation by the grantee institution and adaptation by other institutions. NSEP is interested in proposed approaches to leveraging other funds against the proposed project.

(5) Evaluation plans. Proposals will be evaluated on their approach to measuring impact. What impact will the proposed program have on national capacity? How will the proposed program deal with assessing language and foreign cultural competency? In the case of study abroad programs, how will the success and impact of study abroad experiences be assessed. Proposals should not defer the consideration of these issues to a latter stage of the effort. Evaluation and assessment should be an integral part of the entire proposal effort.

(6) Prospects for wider impact. Proposals must address national needs and will be evaluated according to how well they are likely to address these needs. What component of the higher education community does the proposal address? How diverse a student population will the proposed program address? What applications to other institutions will be made available, either directly or indirectly, because of the proposed program?

(7) Capacity and commitment of the applicant. The proposal will be evaluated according to the evidence provided on the commitment of the institution, and other institutions, to the proposed project. What other institutions are involved and what is their commitment? If there are commitments from foreign institutions, what is the evidence of this commitment? Are their plans for the institution to integrate the efforts of the proposed program into the educational process? What plans are there for eventual self-support? As with many other similar programs, NSEP is particularly interested in the degree to which the institution is willing to bear a reasonable share of the direct and indirect costs of the proposed project.

(d) Applicants should also indicate if they currently receive or are seeking support from other sources. Applicants should indicate why support from NSEP is appropriate, if other sources are also being sought.

Dated: May 10, 2006.
L.M. Bynum,
OSD Federal Register Liaison Officer, DoD.

[FR Doc. 06-4532 Filed 5-15-06; 8:45 am]

BILLING CODE 5001-06-M